FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—10/20/2008
20090007 | GlaxoSmithKline plc | Michael Pellico | Laclede, Inc.
20090008 | GlaxoSmithKline plc | Stephen Pellico | Laclede, Inc.
20090009 | Sageview Capital Master, L.P | Hologic, Inc | Hologic, Inc.
20090023 | Vista Equity Partners Fund III, L.P | Francisco Partners, L.P | Aderant Holdings, Inc.
20090034 | Vista Equity Partners Fund III, L.P | William R. Haack | Zywave, Inc.
20090039 | ESL Partners, L.P | AutoZone, Inc | AutoZone, Inc.
20090044 | ZAM Equities, L.P | AutoZone, Inc | AutoZone, Inc.
Transactions Granted Early Termination—10/21/2008
20090022 | Health Care Service Corporation | TMG Health, Inc | TMG Health, Inc.
20090031 | Oracle Corporation | Primavera Software, Inc | Primavera Software, Inc.
Transactions Granted Early Termination—10/22/2008
20090003 | Puget Energy, Inc | Wayzata Opportunities Fund, LLC | Mint Farm Energy Center LLC.
Transactions Granted Early Termination—10/23/2008
20081693 | Wollers Kluwer N.V | Platform Partners, LLC | Intellitax Software Solutions, Inc., Orrtax Intangibles, LLC, Refunds Today, LLC, Tax Refund Express, Inc., TRE Financial Services, LLC.
Transactions Granted Early Termination—10/24/2008
20090027 | Carl C. Icahn | The Williams Companies, Inc | The Williams Companies, Inc.
20090028 | Icahn Partners Master Fund II L.P | The Williams Companies, Inc | The Williams Companies, Inc.
20090042 | Toyota Boshoku Corporation | Toyota Boshoku Corporation | Trim Masters, Inc.
20090043 | Toyota Boshoku Corporation | Johnson Controls, Inc | Trim Masters, Inc.
20090054 | Maine Health | Waldo County Healthcare, Inc | Waldo County Healthcare, Inc.
20090055 | Johnson & Johnson | Chrysalis Ventures II, L.P | HealthMedia, Inc.
20090055 | Baljit S. Nanda | Sam Hirbod | PCF SaleCo, LLC.
Transactions Granted Early Termination—10/27/2008
20081820 | Reyes Holdings, LLC | Tillman J. Keller III | American Diversified Supply Company, Institutional Jobbers Corporation.
20090035 | Merck & Co., Inc | Japan Tobacco Inc | Japan Tobacco Inc.
20090058 | Continental Aktiengesellschaft | Carlisle Companies Incorporated | Carlisle Power Transmission Products, Inc.
20090063 | Shindaiwa Corporation | Kioritz Corporation | Kioritz Corporation.
Transactions Granted Early Termination—10/28/2008
20090045 | Parker Hannifin Corporation | Robert E. Kershaw | Aqua Pro, Inc., Aqua Pro Properties Ltd. I.
20090057 | HCL Technologies Limited | Axon Group plc | Axon Group plc.
Transactions Granted Early Termination—10/29/2008
20090032 | Ligand Pharmaceuticals Incorporated | Pharmacopeia, Inc | Pharmacopeia, Inc.
20090046 | Precision Castparts Corp | Frederick Properties, Inc | Fatigue Technology, Inc., Fatigue Technology International Corporation, FTI Manufacturing, Inc.
20090056 | Elliott Associates, L.P | Epicor Software Corporation | Epicor Software Corporation.
20090059 | IMD Parent LLC | Lehman Brothers Holdings Inc | Lehman Brothers Holdings Inc.
Transactions Granted Early Termination—10/31/2008
20090002 | Berkshire Hathaway Inc | Constellation Energy Group, Inc | Constellation Energy Group, Inc.
20090064 | Fairfax Financial Holdings Limited | Ridley Corporation Limited | Ridley Inc.
20090066 | Hess Corporation | Crosstex Energy, L.P | Seminole Gas Processing Plant.
20090072 | OME Acquisition S.C.A | HCP Capital Group GmbH | Starkstrom-Geratebau GmbH.

FOR FURTHER INFORMATION CONTACT: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. E8-27019 Filed 11-14-08; 8:45 am]

BILLING CODE 6750-01-M